DEPARTMENT OF THE INTERIOR

Bureau of Land Management

[LLNML00000 L12200000.DF0000 14XL1109AF]

Call for Nominations Las Cruces District Resource Advisory Council, New Mexico

AGENCY: Bureau of Land Management, Interior.

ACTION: Notice.

SUMMARY: The Bureau of Land Management (BLM) is soliciting nominations for the vacant elected-official position on the BLM's Las Cruces District Resource Advisory Council (RAC). The council provides advice and recommendations to the BLM on the management of public lands in the Las Cruces District.

DATES: All nominations must be received no later than June 26, 2014.

FOR FURTHER INFORMATION CONTACT: Lauren Luckey, U.S. Department of the Interior, Bureau of Land Management, Correspondence, International, and Advisory Committee Office, 1849 C Street, NW., MS-MIB 5070, Washington, DC 20240; 202-208-3806.

SUPPLEMENTARY INFORMATION: The Federal Land Policy and Management Act (FLPMA) (43 U.S.C. 1739) directs the Secretary of the Interior to involve the public in planning and issues related to the management of lands administered by the BLM. Section 309 of FLPMA directs the Secretary to establish 10- to 15-member citizen-based advisory councils that conform to the requirements of the Federal Advisory Committee Act (FACA) (5 U.S.C Appendix 1). As required by FACA, RAC membership must be balanced and representative of the various interests concerned with the management of the public lands. The rules governing RACs are found at 43 CFR subpart 1784. Section 309(a) of FLPMA states that at least one member of the advisory council must be an elected official of general purpose government serving the people within the jurisdiction of the council. The vacant seat on the Las Cruces District RAC falls in category three as described in the regulations at 43 CFR 1784.6-1(c)(3). Individuals may nominate themselves or others to serve on the RAC. Nominees must be residents of New Mexico. The BLM will evaluate nominees based on their education, training, experience, and their knowledge of the geographical area of the RAC. Nominees should demonstrate a commitment to collaborative resource decision-making.

The Obama Administration prohibits individuals who are currently federally registered lobbyists from being appointed or re-appointed to FACA and non-FACA boards, committees, or councils.

The following must accompany all nominations:

☐ Letter of reference from represented interests or organizations;

☐ A completed background information nomination form; and

☐ Any other information that addresses the nominee's qualifications.

Nomination forms are available from Rena Gutierrez, Las Cruces District Office, BLM, 1800 Marquess St., Las Cruces, NM 88005, 575-525-4338 and online at www.blm.gov/nm/racs. Completed applications should be sent to the same address.

Authority: 43 CFR 1784.4-1.

Noel L. Wagner,
Acting State Director.

[FR Doc. 2014-12104 Filed 5-23-14; 8:45 am]

BILLING CODE 4310-FB-P